DEPARTMENT OF DEFENSE

Department of the Army

Board of Visitors, United States Military Academy (USMA)

AGENCY: Department of the Army, Department of Defense.

ACTION: Notice of open Federal Advisory Committee combined meeting: In-person and virtual.

SUMMARY: The Department of the Army is publishing this notice to announce the Federal Advisory Committee meeting of the U.S. Military Academy Board of Visitors (Board). This meeting is open to the public. For additional information about the Board, please visit the committee's website at https://www.westpoint.edu/about/superintendent/board-of-visitors.

DATES: The United States Military Academy Board of Visitors will conduct an in-person and Microsoft Office 365 Teams virtual meeting from 09:00 a.m. to 11:30 a.m., November 19, 2021.

ADDRESSES: The U.S. Military Academy Board of Visitors meeting will be a combined in-person and Microsoft Office 365 Teams virtual meeting. The in-person meeting will be held at West Point in Jefferson Hall's Haig Room. The meeting may be virtually accessed via Microsoft Office 365 Teams. To participate in the meeting, see the Meeting Accessibility section for instructions.

FOR FURTHER INFORMATION CONTACT: Mrs. Deadra K. Ghostlaw, the Designated Federal Officer (DFO) for the committee, in writing at: Secretary of the General Staff, ATTN: Deadra K. Ghostlaw, 646 Swift Road, West Point, NY 10996; by email at: deadra.ghostlaw@westpoint.edu or BoV@westpoint.edu; or by telephone at (845) 938-4200.

SUPPLEMENTARY INFORMATION: The USMA BoV provides independent advice and recommendations to the President of the United States on matters related to morale, discipline, curriculum, instruction, physical equipment, fiscal affairs, academic methods, and any other matters relating to the Academy that the Board decides to consider.

Purpose of the Meeting: This is the 2021 Annual Meeting of the USMA BoV. Members of the Board will be provided updates on Academy issues. Agenda: Board Business; Strategy Update: Develop Leaders of Character; Cultivate a Culture of Character Growth; Build Diverse and Effective Teams; Modernize, Sustain, and Secure; and Strengthen Partnerships.

Availability of Materials for the Meeting: A copy of the agenda or any updates to the agenda for the November 19, 2021 meeting will be available in person, or through MS Office 365 Teams. The final version will be available in person, or at the Microsoft Office 365 Teams virtual meeting. All materials will be posted to the website after the meeting.

Meeting Accessibility: Pursuant to 5 U.S.C. 552b, as amended and 41 CFR 102-3.140 through 102-3.165, and seating, for members of the public who wish to attend the meeting in person, is on a space available basis; and is open through Microsoft Office 365 Teams to the public from time in 8:45 a.m.-11:30 p.m. Persons desiring to attend the meeting are required to submit their name, organization, email and telephone contact information to Mrs. Deadra K. Ghostlaw at deadra.ghostlaw@westpoint.edu not later than Wednesday, November 9, 2021; please indicate at that time whether attendance is in person or virtually, via MS Office 365 Teams. Specific instructions for Microsoft Office 365 Teams participation in the meeting, will be provided by reply email. The meeting agenda will be available to those attending the meeting virtually prior to the meeting on the Board's website at: https://www.westpoint.edu/about/superintendent/board-of-visitors.

Public's Accessibility to the Meeting and Special Accommodations: Pursuant to 5 U.S.C. 552b and 41 CFR 102-3.140 through 102-3.165 and subject to the availability of space, this meeting is open to the public. In-person seating is on a first to arrive basis; individuals requiring any special accommodations related to the in-person or virtual public meeting or seeking additional information about the procedures should contact Mrs. Ghostlaw, the committee DFO, at the email address or telephone number listed in the FOR FURTHER INFORMATION CONTACT section, at least seven (7) business days prior to the meeting so that appropriate arrangements can be made. Attendees are requested to submit their name, affiliation, and daytime phone number seven business days prior to the meeting to Mrs. Ghostlaw, via electronic mail, the preferred mode of submission, at the address listed in the FOR FURTHER INFORMATION CONTACT section. Because the committee meeting will be held in a Federal Government facility on a military post, pursuant to Army Regulation 190-13, security screening is required for all members of the public wishing to attend the meeting in-person. A government photo ID is required to enter post. In order to enter the installation, members of the public must first go to the Visitor Control Center in the Visitor Center and go through a background check before being allowed access to the installation. Members of the public then need to park in Buffalo Soldier Field parking lot and ride the north-bound Central Post Area (CPA) shuttle bus to Thayer Road, get off at the Thayer Road Extension and walk up the road to the Guard Station; a member of the USMA staff will meet members of the public wishing to attend the meeting at 08:30 a.m. and escort them to the meeting location. Please note that all vehicles and persons entering the installation are subject to search and/or an identification check. Any person or vehicle refusing to be searched will be denied access to the installation. Members of the public should allow at least an hour for security checks and the shuttle ride. The United States Military Academy, Jefferson Hall, is fully handicap accessible. Wheelchair access is available on the south (Main) entrance of the building. For additional information about public access procedures, contact Mrs. Ghostlaw, the committee's Designated Federal Officer, at the email address or telephone number listed in the FOR FURTHER INFORMATION CONTACT section.

Written Comments or Statements: Pursuant to 41 CFR 102-3.105(j) and 102-3.140 and section 10(a)(3) of the Federal Advisory Committee Act, the public or interested organizations may submit written comments or statements to the Board about its mission and/or the topics to be addressed in this combined in-person/Microsoft Office 365 Teams virtual public meeting. Written comments or statements should be submitted to Mrs. Ghostlaw, the committee DFO, via electronic mail, the preferred mode of submission, at the address listed in the FOR FURTHER INFORMATION CONTACT section in the following formats: Adobe Acrobat or Microsoft Word. The comment or statement must include the author's name, title, affiliation, address, and daytime telephone number. Written comments or statements being submitted in response to the agenda set forth in this notice must be received by the committee DFO at least seven (7) business days prior to the meeting so that they may be made available to the Board for its consideration prior to the meeting. Written comments or statements received after this date may not be provided to the Board until its next meeting. Please note that because the Board operates under the provisions of the Federal Advisory Committee Act, as amended, all written comments will be treated as public documents and will be made available for public inspection.

Pursuant to 41 CFR 102-3.140d, the committee is not obligated to allow a member of the public to speak or otherwise address the committee during the meeting. However, the committee Designated Federal Official and Chairperson may choose to invite certain submitters to present their comments verbally during the open portion of this meeting or at a future meeting. The Designated Federal Officer, in consultation with the committee Chairperson, may allot a specific amount of time for submitters to present their comments verbally.

James W. Satterwhite, Jr.,
Army Federal Register Liaison Officer.

[FR Doc. 2021-23557 Filed 10-28-21; 8:45 am]

BILLING CODE 5001-03-P